DEPARTMENT OF THE INTERIOR

Bureau of Land Management

[LLCAD07000.51010000.ER0000.LVRWB09B1670.18X5017AP) CACA044014, CACA056908 (MO#4500133662)]

Notice of Availability of the Draft Supplemental Environmental Impact Statement for the United States Gypsum Company Mine Expansion/Modernization Project, California

AGENCY: Bureau of Land Management, Interior.

ACTION: Notice of availability.

SUMMARY: In accordance with the National Environmental Policy Act of 1969, as amended, and the Federal Land Policy and Management Act of 1976, as amended, the Bureau of Land Management (BLM) has prepared a Draft Supplemental Environmental Impact Statement (EIS) for the United States Gypsum Company Mine Expansion/Modernization Project (Project), and by this notice is announcing the opening of the public comment period.

DATES: To ensure that all comments will be considered, the BLM must receive written comments on the Draft Supplemental EIS within 45 days following the date the Environmental Protection Agency (EPA) publishes its Notice of Availability in the Federal Register. The BLM will announce future meetings or hearings and any other public involvement activities at least 15 days in advance through public notices, media releases, the project website, and/or mailings.

ADDRESSES: The public may submit comments related to the project during the public comment period by using any of the following methods:

• Website: https://bit.ly/2QiGK0m.

• Email: blm_ca_us_gypsum@blm.gov.

• Mail: U.S. Gypsum Project, Bureau of Land Management El Centro Field Office, 1661 S 4th Street, El Centro, CA 92243.

Copies of the Draft Supplemental EIS are available at the BLM—El Centro Field Office at the above address and at the BLM California Desert District Office, 22835 Calle San Juan De Los Lagos, Moreno Valley, CA 92553, and electronically on the project website referenced above.

FOR FURTHER INFORMATION CONTACT: Miriam Liberatore, BLM project manager, telephone: (541) 618-2412; email: mliberat@blm.gov; mailing address: Bureau of Land Management, 3040 Biddle Road, Medford, OR 97524.

Persons who use telecommunication devices for the deaf may call the Federal Relay Service (FRS) at 1-800-877-8339 to contact Ms. Liberatore during normal business hours. The FRS is available 24 hours a day, 7 days a week, to leave a message or question regarding the project. You will receive a reply during normal business hours.

SUPPLEMENTARY INFORMATION: United States Gypsum Company (USG), a subsidiary of USG Corporation, proposes to expand mining operations at its Plaster City Quarry, replace a waterline supplying its Plaster City Plant, and construct a new waterline and electrical supply line between the Plaster City Quarry and a well on private property. USG applied for right-of-way (ROW) grants for the waterline replacement (CACA-044014) and new waterline and electrical line (CACA-056908) from the BLM for portions of the waterlines that would be located on 18 and 7 acres of public land, respectively. USG also submitted a Mining Plan of Operations to the BLM for the proposed mine expansion, which covers approximately 682 acres of private lands and 9 acres of millsite claims on public lands.

In addition to the proposed action, the Draft Supplemental EIS considers a “no action” alternative and six action alternatives. Alternative 3, Partial Imperial Irrigation District (IID) Water Supply, would replace part of the water used in the Plant with water from the IID, reducing the amount of water supplied by USG's wells in the community of Ocotillo. Alternative 4, Full IID Water Supply, would fully replace the water for the Plant operations with water from the IID. Alternatives 5 through 8 would modify the mining phases to reduce the impacts of the mine expansion on waters of the United States. Under the no action alternative, the BLM would deny the ROW applications and would not approve the plan of operations; mining operations would continue as currently permitted without expansion of those operations.

The BLM has identified Alternative 3, Partial IID Water Supply, as the BLM Preferred Alternative for the Draft Supplemental EIS. The United States Army Corps of Engineers (USACE) will identify a Least Environmentally Damaging Practicable Alternative as part of its permitting process under Section 404 of the Clean Water Act. The BLM is the lead agency and the USACE is a cooperating agency for this Draft Supplemental EIS; both agencies will make Federal decisions associated with the Project. The EPA has authority to review projects that require a permit under Section 404 of the Clean Water Act; therefore, EPA Region 9 is also a cooperating agency, but does not have a direct permitting role in the project. Public input on these alternatives or other issues is important and will be considered in the Final Supplemental EIS. Please note that public comments and information submitted, including names, street addresses, and email addresses of persons who submit comments will be available for public review and disclosure at the above address during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Danielle Chi,
Deputy State Director, Resources.

[FR Doc. 2019-15290 Filed 7-18-19; 8:45 am]

BILLING CODE 4310-40-P